DEPARTMENT OF ENERGY

Federal Energy Regulatory Commission

[Docket No. RP02-346-001]

CMS Trunkline Gas Company, LLC; Notice of Compliance Filing

July 12, 2002.

Take notice that on July 3, 2002, CMS Trunkline Gas Company, LLC (Trunkline) tendered for filing as part of its FERC Gas Tariff, Second Revised Volume No. 1, the following tariff sheet proposed to become effective July 1, 2002:

Sub Original Sheet No. 130A

Trunkline states that this filing is being made to comply with the Commission's Order Accepting Tariff Sheets Subject to Condition issued June 27, 2002 in the subject docket.

Trunkline states that copies of this filing are being served on all affected shippers, interested state regulatory agencies and parties to this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-18098 Filed 7-17-02; 8:45 am]

BILLING CODE 6717-01-P